FEDERAL COMMUNICATIONS COMMISSION

47 CFR Part 73

[DA 05-1733; MB Docket No. 05-80; RM-11160]

Radio Broadcasting Services; Booneville and Guntown, MS

AGENCY: Federal Communications Commission.

ACTION: Final rule.

SUMMARY: In response to a Notice of Proposed Rule Making, 70 FR 13003 (March 17, 2005), this document substitutes Channel 257C3 for Channel 257A at Booneville, Mississippi, reallots Channel 257C3 to Guntown, Mississippi, and modifies the license of Station WBVV(FM), accordingly. The coordinates for Channel 257C3 at Guntown are 34-21-42 North Latitude and 88-35-34 West Longitude, with a site restriction of 11.1 kilometers (6.9 miles) southeast of the community.

DATES: Effective August 8, 2005.

FOR FURTHER INFORMATION CONTACT: Helen McLean, Media Bureau, (202) 418-2738.

SUPPLEMENTARY INFORMATION: This is a synopsis of the Commission's Report and Order, MB Docket No. 05-80, adopted June 22, 2005, and released June 24, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for part 73 reads as follows:

Authority: 47 U.S.C. 154, 303, 334 and 336.

§ 73.202 [Amended]

2. Section 73.202(b), the Table of FM Allotments under Mississippi, is amended by removing Booneville, Channel 257A and by adding Guntown, Channel 257C3.

Federal Communications Commission.
John A. Karousos,
Assistant Chief, Audio Division, Media Bureau.

[FR Doc. 05-13567 Filed 7-12-05; 8:45 am]

BILLING CODE 6712-01-M